ENVIRONMENTAL PROTECTION AGENCY

[EPA-HQ-OPP-2020-0052; FRL-10009-31]

Pesticide Product Registrations; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before June 29, 2020.

ADDRESSES: Submit your comments, identified by the docket identification (ID) number and the EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

Please note that, due to the public health emergency, the EPA Docket Center (EPA/DC) and Reading Room was closed to public visitors on March 31, 2020. Our EPA/DC staff will continue to provide customer service via email, phone, and webform. For further information on EPA/DC services, docket contact information, and the current status of the EPA/DC and Reading Room, please visit https://www.epa.gov/dockets.

FOR FURTHER INFORMATION CONTACT: Robert McNally, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by EPA on these applications. EPA received the following applications to register new uses for pesticide products containing currently registered active ingredients:

1. EPA Registration Number: 100-1469. Docket ID number: EPA-HQ-OPP-2019-0691. Applicant: Syngenta Crop Protection, LLC, 410 South Swing Rd., Greensboro, NC 27409. Active ingredient: Aspergillus flavus strain NRRL 21882. Product type: Fungicide. Proposed use: All food and feed commodities of almond; corn, field; corn, pop; corn, sweet; peanut; and pistachio. Note: In the Federal Register of March 2, 2020 (85 FR 12285) (FRL-10004-59), EPA announced receipt of an application to amend this pesticide product to add applications to almond and pistachio as new uses. Since that time, the applicant provided an associated petition to amend the currently existing Aspergillus flavus strain NRRL 21882 tolerance exemption to cover all food and feed commodities of almond; corn, field; corn, pop; corn, sweet; peanut; and pistachio. Although the applicant is still proposing to amend the pesticide product to add only applications to almond and pistachio as new uses (applications to corn and peanut are already registered uses), EPA is republishing its receipt of this application to make it clear that all the food and feed commodities of the aforementioned crops are intended be covered with applications of the product and to give the public an opportunity to comment on this clarifying information.

2. EPA Registration Number: 279-3618. Docket ID number: EPA-HQ-OPP-2017-0187. Applicant: FMC Corporation, 2929 Walnut St., Philadelphia, PA 19104. Active ingredients: Bacillus licheniformis strain FMCH001 and Bacillus subtilis strain FMCH002. Product type: Fungicide and nematicide. Proposed use: In-furrow application. Note: In the Federal Register of May 5, 2020 (85 FR 26684) (FRL-10008-46), EPA announced receipt of an application to amend this pesticide product to add seed treatment as a new use. Since that time, EPA noticed that it presented the new use as seed treatment instead of in-furrow application. In order to give the public an opportunity to comment on this corrected information, EPA is republishing its receipt of this application with an updated and accurate description.

(Authority: 7 U.S.C. 136 et seq.)

Dated: May 13, 2020.
Robert McNally,
Director, Biopesticides and Pollution Prevention Division, Office of Pesticide Programs.

[FR Doc. 2020-11585 Filed 5-28-20; 8:45 am]

BILLING CODE 6560-50-P